DEPARTMENT OF HEALTH AND HUMAN SERVICES

Agency for Healthcare Research and Quality

Agency Information Collection Activities: Proposed Collection; Comment Request

AGENCY: Agency for Healthcare Research and Quality, HHS.

ACTION: Information collection notice.

SUMMARY: This notice announces the intention of the Agency for Healthcare Research and Quality (AHRQ) to request that the Office of Management and Budget (OMB) approve an extension, without change, of the currently approved “AHRQ Consumer Assessment of Healthcare Providers and Systems (CAHPS) Home and Community-Based Services Survey (HCBS) Database” (OMB Control number 0935-0245, last approved on January 3, 2023, for three years).

DATES: Comments on this notice must be received by January 27, 2026.

ADDRESSES: Written comments should be submitted to: Margie Shofer, Reports Clearance Officer, AHRQ, by email at REPORTSCLEARANCEOFFICER@ahrq.hhs.gov.

Copies of the proposed collection plans, data collection instruments, and specific details on the estimated burden can be obtained from the AHRQ Reports Clearance Officer.

FOR FURTHER INFORMATION CONTACT: Margie Shofer, AHRQ Reports Clearance Officer, (301) 427-1696, or by email at REPORTSCLEARANCEOFFICER@ahrq.hhs.gov.

SUPPLEMENTARY INFORMATION:

Proposed Project

The CAHPS Home and Community-Based Services Survey (HCBS-CAHPS Survey) is the first cross-disability survey of home and community-based service beneficiaries' experience receiving long-term services and supports. It is designed to facilitate comparisons across state Medicaid HCBS programs throughout the country that target adults with disabilities, e.g., including older adults, individuals with physical disabilities, persons with developmental or intellectual disabilities, those with acquired brain injury and persons with severe mental illness.

The HCBS-CAHPS Database serves as a primary source of data available to states, agency programs and researchers to help answer important questions related to beneficiary experiences. AHRQ, through its contractor, collects and make available de-identified survey data, enabling HCBS programs to identify areas where quality can be improved.

The HCBS-CAHPS Database supports AHRQ's goals of promoting improvements in the quality and patient-centeredness of health care in home or community-based care settings.

The HCBS-CAHPS Survey was developed by the Centers for Medicare & Medicaid Services (CMS) for voluntary use by state Medicaid programs, including both fee-for-service HCBS programs as well as managed long-term services and supports (MLTSS) programs. States with adequate sample sizes may consider using survey metrics in value-based purchasing initiatives.

This research seeks to answer the following questions:

1. What are the key drivers of patient experience in HCBS programs?

2. How do beneficiary experiences with HCBS vary across states and program types?

3. What are the highest and lowest scoring measures in specific domains of HCBS delivery of care?

This research has the following goals:

1. Produce aggregated results from HCBS-CAHPS survey users that voluntarily submit their data; and

2. Provide feedback reports to HCBS-CAHPS survey users that voluntarily submit their data to help them identify their strengths and areas for improvement in patient care.

This study is being conducted by AHRQ through its contractor, Westat, pursuant to AHRQ's statutory authority to conduct and support research on health care and on systems for the delivery of such care, including activities with respect to the quality, effectiveness, efficiency, appropriateness and vale of healthcare services and with respect to quality measurement and improvement [42 U.S.C 299a(a)(1), (2) and (8)].

The development and operation of the HCBS-CAHPS Database will include the following major components undertaken by AHRQ through its contractor.

1. Program Recruitment. Outreach will be conducted with the HCBS-CAHPS user community (including state agencies, managed long-term services and supports (MLTSS) programs, centers for independent living, improvement collaborative organizations, survey vendors, etc.) to promote the database and its benefits and encourage voluntary contributions of survey data. A variety of communications will be used (e.g., GovDelivery announcements, personal email messages, conference and meeting presentations, etc.) to present the value case for the database and key dates and details about submitting data.

2. Data Submission Platform. AHRQ's contractor currently provides a web-based user-friendly submission platform for both the CAHPS Health Plan and CAHPS Child Hospital survey data. This platform was used as a model to develop the HCBS-CAHPS Database submission system, including data submission specifications; technical assistance and step-by-step instructions for participation; analysis programs for data cleaning and reporting; and data use agreements to protect the confidentiality of the participating organizations and their data.

3. Submission Notifications and Instructions. Clear instructions and notifications are of paramount importance for successful submission of valid data, seamless report dissemination, and streamlined communication with survey vendors, state programs, or other submitters.

Method of Collection

The development and operation of the HCBS-CAHPS Database will include the following data collection activities:

• Registration with the site to obtain an account with a secure username and password;

• Submission of DUAs and survey questionnaires;

• Submission of program information form;

• Submission of de-identified survey data files,

• Generation of status reports indicating that submitted files are either accepted or rejected; and

• Follow-up with submitters in the event of a rejected file, to assist in making corrections and resubmitting the file.

Estimated Annual Respondent Burden

Exhibit 1 shows the estimated burden hours for the respondents to participate in the database. The 51 POCs in Exhibit 1 represent the 51 states or agencies that will administer the Adult HCBS survey. An estimated thirteen survey vendors will assist them.

Each POC will:

1. Register online for submission. The online registration form will require about five minutes to complete.

2. Complete a program information form of information about each program such as the name of the program, program size, state, etc. The online program information form takes on average 5 minutes to complete.

3. Complete a DUA. The DUA requires about 3 minutes to sign and return by fax or mail.

Each submitter, which in most cases will be the survey vendor performing the data collection, will provide a copy of their questionnaire and the survey data file in the required file format. Survey data files must conform to the data file layout specifications provided by the HCBS-CAHPS Database. Since the unit of analysis is at the program level, submitters will upload one data file per program. Once a data file is uploaded the file will be automatically checked to ensure it conforms to the specifications and a data file status report will be produced and made available to the submitter. Submitters will review each report and will be expected to correct any errors in their data file and resubmit if necessary. It will take about one hour to submit the data for each program.

The total burden is estimated to be 63 hours annually.

Exhibit 1—Estimated Annualized Burden Hours
Form name | Number of respondents/ POCs * | Number of responses per POC | Hours per response | Total burden hours
Registration Form | 51 | 1 | 5/60 | 4.25
Program Information Form | 51 | 1 | 5/60 | 4.25
Data Use Agreement | 51 | 1 | 3/60 | 2.5
Data Files Submission | 13 | 4 | 1 | 52
Total | NA | NA | NA | 63
* The 51 POC's for the registration form, program information form and the DUA are the estimated POC's from the estimated participating programs.

Exhibit 2 shows the estimated annualized cost burden based on the respondents' time to complete one submission process. The cost burden is estimated to be $6,940 annually.

Exhibit 2—Estimated Annualized Cost Burden
Form name | Total burden hours | Average hourly wage rate * | Adjusted hourly wage rate ** | Total cost burden
Registration Form | 4.25 | ᵃ 66.22 | 132.44 | $563
Program Information Form | 4.25 | ᵃ 66.22 | 132.44 | 563
Data Use Agreement | 2.5 | ᵇ 126.41 | 252.82 | 632
Data Files Submission | 52 | ᶜ 49.83 | 99.66 | 5,182
Total | 63 | NA | NA | 6,940
* National Compensation Survey: Occupational wages in the United States May 2024, “U.S. Department of Labor, Bureau of Labor Statistics.”
** The Adjusted Hourly Rate was estimated at 200% of the hourly wage.
ᵃ Based on the mean hourly wage for Medical and Health Services Managers (11-9111).
ᵇ Based on the mean hourly wage for Chief Executives (11-1011).
ᶜ Based on the mean hourly wages for Computer Programmers (15-1251).

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: November 24, 2025.
Mamatha Pancholi,
Deputy Director.

[FR Doc. 2025-21348 Filed 11-26-25; 8:45 am]

BILLING CODE 4160-90-P